DEPARTMENT OF TRANSPORTATION

Surface Transportation Board

[STB Finance Docket No. 34742]

Murray-Calloway Economic Development Corporation—Acquisition Exemption—Hardin Southern Railroad, Inc.

Murray-Calloway Economic Development Corporation (EDC), a noncarrier, has filed a verified notice of exemption under 49 CFR 1150.31 to acquire by purchase from Hardin Southern Railroad, Inc., a rail line between milepost 38.34, near Murray, in Calloway County, KY, and milepost 30, near Hardin, in Marshall County, KY, a total distance of 8.34 miles.¹ EDC states that it does not intend to operate the line or to hold itself out to provide common carrier service.²

¹ This transaction is related to STB Finance Docket No. 34741, KWT Railway, Inc.—Lease and Operate—Murray-Calloway Economic Development Corporation, wherein KWT Railway, Inc. (KWT), has filed a notice of exemption to lease and operate the portion of rail line between milepost 38.34 and approximately milepost 37.34.

² EDC states that, “* * * [t]o the extent that the line is considered a “line of railroad” the EDC intends to embargo or discontinue service over the rest of the line.” Because EDC is acquiring the 8.34-mile line pursuant to 49 U.S.C. 10901, the entire line is a line of railroad, and EDC is acquiring a common carrier obligation to either provide service over all of it or assure that service is provided by another carrier. Should EDC seek to terminate that obligation in whole or in part in the future, it will need to file for authority to abandon or discontinue service. In connection with any such request, EDC should be aware of the Board's holding in The Land Conservancy of Seattle and King County—Acquisition and Operation Exemption—The Burlington Northern and Santa Fe Railway Company, STB Finance Docket No. 33389 (STB served Sept. 26, 1997).

EDC certifies that its projected revenues as a result of the transaction will not exceed those that would qualify it as a Class III rail carrier and will not exceed $5 million.

The transaction was expected to be consummated on or after August 15, 2005, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34742, must be filed with the Surface Transportation Board, 1925 K Street, NW., Washington, DC 20423-0001. In addition, one copy of each pleading must be served on Mark Manning, P.O. Box 1911, Murray, KY 42071.

Board decisions and notices are available on our Web site at http://www.stb.dot.gov.

Decided: August 31, 2005.
By the Board, David M. Konschnik, Director, Office of Proceedings.
Vernon A. Williams,
Secretary.

[FR Doc. 05-17725 Filed 9-6-05; 8:45 am]

BILLING CODE 4915-01-P